DEPARTMENT OF HOMELAND SECURITY

Transportation Security Administration

Intent To Request Renewal From OMB of One Current Public Collection of Information: Employment Standards

AGENCY: Transportation Security Administration, DHS.

ACTION: 60-day Renewal Notice.

SUMMARY: The Transportation Security Administration (TSA) invites public comment on one currently approved Information Collection Request (ICR), OMB control number 1652-0006, abstracted below that we will submit to the Office of Management and Budget (OMB) for renewal in compliance with the Paperwork Reduction Act. The ICR describes the nature of the information collection and its expected burden. The collection involves the requirement for airport and aircraft operators to maintain records of compliance with 49 CFR parts 1542 and 1544.

DATES: Send your comments by August 14, 2009.

ADDRESSES: Comments may be mailed or delivered to Ginger LeMay, Office of Information Technology, TSA-11, Transportation Security Administration, 601 South 12th Street, Arlington, VA 20598-6011.

FOR FURTHER INFORMATION CONTACT: Ginger LeMay at the above address, or by telephone (571) 227-3616 or e-mail ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0006; Employment Standards, 49 CFR parts 1542 and 1544. The information collected is used to determine compliance with 49 CFR parts 1542 and 1544. Airport operators maintain records of compliance with part 1542 for those employees with access privileges to Security Identification Display Areas of the airport. Aircraft operators maintain records of compliance with part 1544 for selected crew and security employees. TSA Transportation Security Inspectors (TSIs) review these records to ensure that the safety and security of the public is not compromised, to include using this information to take corrective action when necessary. These regulations establish procedures that airports and airlines must carry out to protect persons and property against acts of criminal violence, aircraft piracy, and terrorist activities. The current estimated annual reporting burden is 183,506 hours.

Issued in Arlington, Virginia, on June 9, 2009.
Ginger LeMay,
Paperwork Reduction Act Officer, Business Improvements and Communications, Office of Information Technology.

[FR Doc. E9-13958 Filed 6-12-09; 8:45 am]

BILLING CODE 9110-05-P